FEDERAL ELECTION COMMISSION

Sunshine Act Meetings

FEDERAL REGISTER CITATION OF PREVIOUS ANNOUNCEMENT: 89 FR 85212.

PREVIOUSLY ANNOUNCED TIME AND DATE OF THE MEETING: Wednesday, October 30, 2024 at 10:00 a.m., Hybrid Meeting: 1050 First Street NE, Washington, DC (12th Floor) and virtual.

CHANGES IN THE MEETING: The October 30, 2024 Open Meeting has been canceled.

CONTACT PERSON FOR MORE INFORMATION: Judith Ingram, Press Officer, Telephone: (202) 694-1220.

(Authority: Government in the Sunshine Act, 5 U.S.C. 552b)

Laura E. Sinram,
Secretary and Clerk of the Commission.

[FR Doc. 2024-25498 Filed 10-29-24; 4:15 pm]

BILLING CODE 6715-01-P